DEPARTMENT OF AGRICULTURE

Animal and Plant Health Inspection Service

[Docket No. APHIS-2023-0049]

Notice of Request for Revision to and Extension of Approval of an Information Collection; Importation of Live Swine, Pork and Pork Products, and Swine Semen From the European Union; Correction

AGENCY: Animal and Plant Health Inspection Service, USDA.

ACTION: Notice of request for comments; correction.

SUMMARY: The Animal and Plant Health Inspection Service (APHIS) is correcting a notice that was published in the Federal Register on June 29, 2023. The notice announced APHIS' intention to request a revision to and extension of approval of an information collection associated with the importation of live swine, pork and pork products, and swine semen into the United States from the European Union and requested comments pursuant to the Paperwork Reduction Act of 1995. This document corrects the estimates provided for the associated activities and reopens the comment period.

DATES: We will consider all comments that we receive on or before January 2, 2024.

ADDRESSES: You may submit comments by either of the following methods:

• Federal eRulemaking Portal: Go to www.regulations.gov. Enter APHIS-2023-0049 in the Search field. Select the Documents tab, then select the Comment button in the list of documents.

• Postal Mail/Commercial Delivery: Send your comment to Docket No. APHIS-2023-0049, Regulatory Analysis and Development, PPD, APHIS, Station 3A-03.8, 4700 River Road, Unit 118, Riverdale, MD 20737-1238.

Supporting documents and any comments we receive on this docket may be viewed at regulations.gov or in our reading room, which is located in Room 1620 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: For information on the importation of animals and animal products into the United States from the European Union, contact Dr. Alexandra MacKenzie, Senior Veterinary Medical Officer, Live Animal Imports/Ruminants, Swine, Semen, and Embryos, Strategy and Policy, VS, APHIS, 4700 River Road, Unit 39, Riverdale, MD 20737; (301) 851-3411; email: alexandra.mackenzie@usda.gov. For more information on the information collection reporting process, contact Mr. Joseph Moxey, APHIS' Paperwork Reduction Act Coordinator, at (301) 851-2483; joseph.moxey@usda.gov.

SUPPLEMENTARY INFORMATION: On June 29, 2023, the Animal and Plant Health Inspection Service published in the Federal Register a notice (FR Doc. 2023-13801, 88 FR 42042, APHIS-2023-0049) ¹ regarding an information collection associated with the importation of live swine, pork and pork products, and swine semen from the European Union. Since publication, we have found that the estimates provided need to be corrected. This document corrects the estimates and also reopens the comment period for an additional 60 days to allow interested persons to prepare and submit comments.

¹ To view the notice, go to www.regulations.gov. Enter APHIS-2023-0049 in the Search field.

Correction

In the Federal Register of June 29, 2023, FR Doc. 2023-13803 (88 FR 42042-42043) under the SUPPLEMENTARY INFORMATION section, the following corrections are made:

1. On page 42042, in the third column, correct Estimate of burden: to read:

Estimate of burden: The public burden for this collection of information is estimated to average 0.99 hours per response.

2. On page 42043, in the first column, make the following corrections:

Estimated annual number of respondents: 216.

Estimated annual number of responses per respondent: 33.

Estimated annual number of responses: 7,179.

Estimated total annual burden on respondents: 7,168 hours. (Due to averaging, the total annual burden hours may not equal the product of the annual number of responses multiplied by the reporting burden per response.)

Done in Washington, DC, this 23rd day of October 2023.
Donna Lalli,
Acting Administrator, Animal and Plant Health Inspection Service.

[FR Doc. 2023-24064 Filed 10-31-23; 8:45 am]

BILLING CODE 3410-34-P